DEPARTMENT OF COMMERCE

United States Patent and Trademark Office

[Docket No. PTO-C-2011-0066]

Request for Comments on Additional USPTO Satellite Offices for the Nationwide Workforce Program

The United States Patent and Trademark Office (USPTO) is interested in gathering information on potential locations for future USPTO satellite offices that the USPTO is directed to establish, subject to available resources, under Section 23 of the America Invents Act (AIA). The establishment of satellite offices is an important component of the USPTO's continued efforts to recruit and retain a highly skilled workforce, reduce patent application pendency and improve quality, and enhance communication between the USPTO and the patent applicant community. An initial satellite office is already planned to be established in Detroit, Michigan. Subject to available resources, the USPTO will establish at least two more satellite offices in addition to the one in Detroit in accordance with the AIA.

Deadline: Written comments are requested on or before January 30, 2012. No public hearing will be held.

Written Comments: Submit comments electronically by email directly to the USPTO at satelliteoffices@uspto.gov. The USPTO prefers to receive comments via email; however, comments may also be submitted by postal mail addressed to: Azam Khan, Deputy Chief of Staff, United States Patent and Trademark Office, Mail Stop Office of Under Secretary and Director, P.O. Box 1450, Alexandria, VA, 22313-1450.

Comments may also be submitted through the Federal eRulemaking Portal Web site at http://www.regulations.gov. Additional instructions on providing comments through the Federal eRulemaking Portal are available at http://www.regulations.gov. All comments submitted directly to the USPTO or provided on the Federal eRulemaking Portal should include the docket number PTO-C-2011-0066, and should be identified in the subject line of the email or postal mailing as “Nationwide Workforce Program.”

All written comments will be available for public inspection upon request at the Office of the Chief Administrative Officer located at Madison West, 10th Floor, 600 Dulaney Street Alexandra, VA, and will be available at the USPTO web site at http://www.uspto.gov. All comments made through the Federal eRulemaking Portal will be made publicly available on that Web site. Because comments will be made available for public inspection, information that is not desired to be made public, such as an address or phone number, should not be included in the comments.

Contact: Azam Khan, Deputy Chief of Staff, Office of the Under Secretary and Director, at (571) 272-8600; by email at azam.khan@uspto.gov; or by postal mail addressed to: Azam Khan, Deputy Chief of Staff, United States Patent and Trademark Office, Mail Stop Office of Under Secretary and Director, P.O. Box 1450, Alexandria, VA, 22313-1450.

Additional Information: The USPTO requests information on potential cities and regions for future locations of satellite offices as part of its Nationwide Workforce Program.

An initial satellite office is planned to be established in Detroit, Michigan. A nationwide workforce model will enable the USPTO to expand its traditional hiring methods and seek out areas of the country where the resources, including human resources and technical expertise, exist to fulfill the USPTO's critical mission. It will enable the USPTO to achieve better outreach and interact with the patent applicant community. The USPTO is investigating options for establishing satellite offices in at least two additional cities, where the USPTO does not already have an office (Alexandria, Virginia) or plan to establish an office (Detroit, Michigan). In accordance with the AIA, the USPTO is looking for States and regions that would best serve the interests of our employees, the USPTO's user community, and America's patent and trademark system, while ensuring geographic diversity among USPTO's offices.

Before choosing Detroit, the USPTO considered multiple cities to determine the feasibility of the initial phase of this program. The criteria included, but was not limited to: Occupational clusters; patent attorneys and agents currently in the region; patent applications by state; access to universities with strong engineering programs; public transportation infrastructure and proximate location to a major airport; the ability to share facilities with other established governmental operations; the ability to support Departmental objectives, including CommerceConnect, and increase collaborations among Commerce bureaus and offices; and various economic factors, including cost of living and unemployment rates of the city.

Comments should provide information that supports the USPTO's purposes of establishing satellite offices, including that the location will:

(1) Increase outreach activities to better connect patent filers and innovators with the USPTO, including the number of patent filings and grants by the city/region as well as other information that provides insight into the region's innovation activity;

(2) Enhance patent examiner retention, including quality of life indicators such as average household income, cost of living factors, and other factors related to employee retention;

(3) Improve recruitment of patent examiners, including data on employment rates and other economic factors in the area, science and technology professionals, as well as legal professionals in the workforce and other related information;

(4) Decrease the number of patent applications awaiting examination; and

(5) Improve the quality of patent examination.

Comments may also include any other information the Office may find useful in determining future locations such as information related to available office space, the presence of universities with strong engineering programs, the presence of research facilities, the economic impact to the region, and any other economic factors. Comments may also include information on additional factors the USPTO should consider in comparing regions.

While the Office welcomes and values all comments from the public in response to this request, these comments do not bind the Office to any further actions related to the comments, and the Office may not respond to any or every comment that is submitted. The Office will, however, consider all written submissions.

Any and all decisions made with regard to future satellite office locations will be made based on the criteria outlined in the AIA and in line with the goals and mission of the USPTO.

Dated: November 22, 2011.
David J. Kappos,
Under Secretary of Commerce for Intellectual Property and Director of the United States Patent and Trademark Office.

[FR Doc. 2011-30717 Filed 11-28-11; 8:45 am]

BILLING CODE 3510-10-P